DEPARTMENT OF THE INTERIOR

Fish and Wildlife Service

Information Collection To Be Submitted to the Office of Management and Budget (OMB) for Approval Under the Paperwork Reduction Act

AGENCY: Fish and Wildlife Service, Interior.

ACTION: Notice of intent to request renewal of information collection authority.

SUMMARY: We will submit the collection of information listed below to OMB for approval under the provisions of the Paperwork Reduction Act of 1995. You may obtain copies of specific information collection requirements and explanatory material by contacting our Information Collection Clearance Officer at the address or phone number listed below.

DATES: You must submit comments on or before June 25, 2001.

ADDRESSES: Send your comments on the requirement to the Information Collection Clearance Officer, U.S. Fish and Wildlife Service, Room 222 ARLSQ, 1849 C Street, NW., Washington, DC 20204.

FOR FURTHER INFORMATION CONTACT: To request a copy of the information collection request, explanatory information, and related forms, contact Rebecca A. Mullin at (703) 358-2287 or electronically to rmullin@fws.gov.

SUPPLEMENTARY INFORMATION: We propose to submit the following information collection clearance requirements to the OMB for review and approval under the Paperwork Reduction Act of 1995 (Pub. L. 104-13). We currently have OMB approval #1018-0102, which expires 12/31/01.

Your comments are invited on: (1) Whether this collection of information is necessary for us to properly perform our functions, including whether this information will have practical utility; (2) the accuracy of our estimates of burden, including the validity of the methodology and assumptions we use; (3) ways to enhance the quality, utility, and clarity of the information we are proposing to collect; and (4) ways to minimize the burden of the collection of information on those who are to respond, including through the use of appropriate automated, electronic, mechanical, or other technological collection techniques or other forms of information technology. An agency may not conduct or sponsor, and a person is not required to respond to a collection of information unless the agency displays a currently valid OMB control number.

The National Wildlife Refuge System Improvement Act of 1997 that amends the National Wildlife Refuge Administration Act of 1966 (16 U.S.C. 668 dd-ee) requires that we authorize economic privileges on any national wildlife refuge by permit only when the activity will be compatible and appropriate with the purposes for which the refuge was established. We will provide the permit applications as requested by interested citizens. We will use information provided on the required written forms and-or verbal applications to ensure that the applicant is eligible for the permit. We make provision in our general refuge regulations for public entry for specialized purposes, including economic activities such as the operation of guiding and other visitor services on refuges by concessionaire or cooperators under appropriate contractors or legal agreements or special use permits (50 CFR 25.41 and §§ 25.61, 30.11, 31.13, and 31.16). These regulations provide the authorities and procedures for allowing permits on refuges outside of Alaska.

We use this permit to authorize such items as farming operations (haying and grazing, and beneficial management tools that we use to provide the best habitat possible on some refuges), recreational visitor service operations (outfitters/guides), commercial filming, and other commercial and noncommercial activities. Likely respondents will be individual citizens, certain corporations, Federal, State, local, or Tribal governments. We will issue permits for a specific period as determined by the type and location of the use or visitor service provided.

Title: National Wildlife Refuge System Special Use Permit for all Refuges Outside Alaska.

Approval Number: 1018-0102

Service Form Number: 3-1383

Frequency of Collection: On occasion.

Description of Respondents: Individuals and households; Business and other for-profit organizations; Non-profit institutions; Farms; and State, local or Tribal governments.

Total Annual Burden Hours: We have 519 national wildlife refuges outside the State of Alaska. We anticipate that each refuge will authorize approximately 20 permits each year. This is a total of 10,380 permits. We estimate that it takes an hour to complete the application requirements to supply the necessary information. Therefore the annual burden estimate in hours is 10,380.

Dated: April 19, 2001.
Rebecca A. Mullin,
Information Collection Officer, Fish and Wildlife Service.

[FR Doc. 01-10411 Filed 4-25-01; 8:45 am]

BILLING CODE 4310-55-M